DEPARTMENT OF COMMERCE

Foreign-Trade Zones Board

[B-14-2020]

Foreign-Trade Zone (FTZ) 230—Piedmont Triad Area, North Carolina; Authorization of Production Activity; LLFlex, LLC; (Aluminum Foil Paper Laminate, Foil-Backed Paperboard, Coated Paper, Coated Paperboard, and Cable Wrap); High Point, North Carolina

On March 6, 2020, the Piedmont Triad Partnership, grantee of FTZ 230, submitted a notification of proposed production activity to the FTZ Board on behalf of LLFlex, LLC, within FTZ 230, in High Point, North Carolina.

The notification was processed in accordance with the regulations of the FTZ Board (15 CFR part 400), including notice in the Federal Register inviting public comment (85 FR 14882-14883, March 16, 2020). On July 6, 2020, the applicant was notified of the FTZ Board's decision that no further review of the activity is warranted at this time. The production activity described in the notification was authorized, subject to the FTZ Act and the FTZ Board's regulations, including Section 400.14.

Dated: July 6, 2020.
Andrew McGilvray,
Executive Secretary.

[FR Doc. 2020-14799 Filed 7-8-20; 8:45 am]

BILLING CODE 3510-DS-P